NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. NSF has published regulations under the Antarctic Conservation Act in the Code of Federal Regulations. This is the required notice of a requested permit modification issued.

FOR FURTHER INFORMATION CONTACT: Andrew Titmus, ACA Permit Officer, Office of Polar Programs, National Science Foundation, 2415 Eisenhower Avenue, Alexandria, VA 22314; 703-292-4479; email: ACApermits@nsf.gov.

SUPPLEMENTARY INFORMATION: The National Science Foundation (NSF), as directed by the Antarctic Conservation Act of 1978 (Pub. L. 95-541, 45 CFR part 670), as amended by the Antarctic Science, Tourism and Conservation Act of 1996, has developed regulations for the establishment of a permit system for various activities in Antarctica and designation of certain animals and certain geographic areas as requiring special protection.

Description of Permit Modification Requested: The Foundation issued a permit (ACA 2023-034) to Leidos Innovations Group, Antarctic Support Contract on January 27, 2024. The issued permit allows the applicant to enter Antarctic Specially Protected Areas 105, 106, 113, 121, 123, 124, 131, 137, 138, 149, 154, 172, 175 to support National Science Foundation (NSF) environmental management responsibilities under Annex V of the Protocol on Environmental Protection to the Antarctic Treaty.

Now the applicant proposes a modification to the permit to add access to ASPA 116—New College Valley, Caughley Beach, Cape Bird, Ross Island to support activities related to a review of the management plan for the ASPA. The activities are consistent with the existing activities authorized under the permit.

The ACA Permit Officer has reviewed the modification request and has determined that the amendment is not a material change to the permit, and it will have a less than a minor or transitory impact.

Dates: February 1, 2023 to January 31, 2028.

The permit modification was issued on July 30, 2024.

Kimiko S. Bowens-Knox,
Program Analyst, Office of Polar Programs.

[FR Doc. 2024-17433 Filed 8-6-24; 8:45 am]

BILLING CODE 7555-01-P